SECURITIES AND EXCHANGE COMMISSION

Sunshine Act Meeting; Cancellation

FEDERAL REGISTER CITATION OF PREVIOUS ANNOUNCEMENT: To Be Published.

PREVIOUSLY ANNOUNCED TIME AND DATE OF THE MEETING: Wednesday, October 23, 2019 at 10:00 a.m.

CHANGES IN THE MEETING: The Open Meeting scheduled under the Government in the Sunshine Act for Wednesday, October 23, 2019 at 10:00 a.m., has been cancelled and is expected to be rescheduled for a date in November 2019.

CONTACT PERSON FOR MORE INFORMATION: For further information; please contact Vanessa A. Countryman from the Office of the Secretary at (202) 551-5400.

Dated: October 18, 2019.
Eduardo A. Aleman,
Deputy Secretary.

[FR Doc. 2019-23191 Filed 10-21-19; 11:15 am]

BILLING CODE 8011-01-P